DEPARTMENT OF LABOR

Employment and Training Administration

[TA-W-65,006]

Warren Corporation; Stafford Springs, CT; Notice of Termination of Investigation

In accordance with Section 221 of the Trade Act of 1974, as amended, an investigation was initiated on January 27, 2009 in response to a petition filed by a State of Connecticut Workforce Office representative on behalf of workers of Warren Corporation, Stafford Springs, Connecticut.

The petitioner has requested that the petition be withdrawn. Consequently, the investigation has been terminated.

Signed in Washington, DC, this 18th day of March 2009.
Richard Church,
Certifying Officer, Division of Trade Adjustment Assistance.

[FR Doc. E9-7131 Filed 3-30-09; 8:45 am]

BILLING CODE 4510-FN-P